DEPARTMENT OF AGRICULTURE

Agricultural Marketing Service

7 CFR Parts 948

[Docket No. FV05-948-1 PR]

Irish Potatoes Grown in Colorado; Reopening of Comment Period on Relaxation of Handling Regulation for Area No. 2 and Certain Imported Potatoes

AGENCY: Agricultural Marketing Service, USDA.

ACTION: Reopening of comment period.

SUMMARY: Notice is hereby given that the comment period on the proposed relaxation of minimum grade requirements for Colorado Area No. 2 potatoes under Marketing Order No. 948 (order), and for imported red-skinned round type potatoes under the potato import regulation is reopened until September 12, 2005.

DATES: Comments must be received by September 12, 2005.

ADDRESSES: Interested persons are invited to submit written comments concerning this proposal. Comments should be sent to the Docket Clerk, Marketing Order Administration Branch, Fruit and Vegetable Programs, AMS, USDA, 1400 Independence Avenue SW., STOP 0237, Washington, DC 20250-0237; Fax: (202) 720-8938, E-mail: moab.docketclerk@usda.gov, or Internet: http://www.regulations.gov. All comments should reference the docket number and the date and page number of this issue and the May 6, 2005, issue of the Federal Register and will be available for public inspection in the office of the Docket Clerk during regular business hours, or can be viewed at: http://www.ams.usda.gov/fv/moab.html.

FOR FURTHER INFORMATION CONTACT: Teresa Hutchinson, Northwest Marketing Field Office, Marketing Order Administration Branch, Fruit and Vegetable Programs, AMS, USDA; Telephone: (503) 326-2724, Fax: (503) 326-7440; or George Kelhart, Marketing Order Administration Branch, Fruit and Vegetable Programs, AMS, USDA, 1400 Independence Avenue SW., STOP 0237, Washington, DC 20250-0237; Telephone: (202) 720-2491, or Fax: (202) 720-8938.

Small businesses may request information on complying with this regulation by contacting Jay Guerber, Marketing Order Administration Branch, Fruit and Vegetable Programs, AMS, USDA, 1400 Independence Avenue SW., STOP 0237, Washington, DC 20250-0237; Telephone: (202) 720-2491, Fax: (202) 720-8938, or E-mail: Jay.Guerber@usda.gov.

SUPPLEMENTARY INFORMATION: A proposed rule was issued on May 3, 2005, and published in the Federal Register on May 6, 2005 (70 FR 23942). The proposed rule would relax the minimum grade requirements from U.S. No. 1 to U.S. Commercial for all Colorado Area No. 2 potato varieties measuring from 1½-inch minimum diameter to 2¼-inch maximum diameter (size B), and from 1-inch minimum diameter to 1¾-inch maximum diameter. Under the potato import regulation, the grade changes would only apply to all red-skinned round type imported potatoes of the same size categories during the months of October through June.

Reopening of the comment period was requested on behalf of domestic potato growers by a potato shipper in Pennsylvania. This shipper expressed concern that the relaxation of minimum grade requirements for potatoes imported from Canada could negatively impact potato producers in the United States.

After reviewing the request, USDA is reopening the comment period for 20 additional days. This will provide interested persons more time to review the proposed rule, perform a more complete analysis, and prepare information in writing to support their comments.

Accordingly, the period in which to file written comments is reopened until September 12, 2005. This notice is issued pursuant to the Agricultural Marketing Agreement Act of 1937.

Authority: 7 U.S.C. 601-674.

Dated: August 17, 2005.
Lloyd C. Day,
Administrator, Agricultural Marketing Service.

[FR Doc. 05-16570 Filed 8-19-05; 8:45 am]

BILLING CODE 3410-02-P